DEPARTMENT OF DEFENSE

Defense Acquisition Regulations System

48 CFR Parts 226 and 252

RIN 0750-AH85

Defense Federal Acquisition Regulation Supplement: Encouragement of Science, Technology, Engineering, and Mathematics (STEM) Programs (DFARS Case 2012-D027); Withdrawal

AGENCY: Defense Acquisition Regulations System, Department of Defense (DoD).

ACTION: Proposed rule, withdrawal.

SUMMARY: DoD hereby provides notice of the cancellation of a proposed rule without further action. DoD has determined that the proposed amendment to the Defense Federal Acquisition Regulation Supplement (DFARS) is not a necessary part of the Department's plan to implement a section of the National Defense Authorization Act for Fiscal Year 2012, that requires DoD to encourage contractors to develop science, technology, engineering, and mathematics (STEM) programs.

FOR FURTHER INFORMATION CONTACT: Mr. Dustin Pitsch: telephone 571-372-6090; email: dustin.pitsch@osd.mil; or Defense Acquisition Regulations System, Attn: Mr. Dustin Pitsch, OUSD(AT&L)DPAP/DARS, Room 3B855, 3060 Defense Pentagon, Washington, DC 20301-3060.

SUPPLEMENTARY INFORMATION:

I. Background

DoD published a proposed rule to amend the DFARS to implement section 862 of the National Defense Authorization Act for Fiscal Year 2012, which requires DoD to encourage contractors to develop science, technology, engineering, and mathematics (STEM) programs. The purpose of this Notice is to advise that the proposed rule is cancelled without further action. At this time, DoD is in the process of reassessing the most effective and efficient methods by which it can encourage contractors to develop science, technology, engineering, and mathematics (STEM) programs.

The cancelled proposed rule is identified by RIN 0750-AH85, Encouragement of Science, Technology, Engineering, and Mathematics (STEM) Programs. It was published in the Federal Register at 78 FR 13604-13606.

Manuel Quinones,
Editor, Defense Acquisition Regulations System.

[FR Doc. 2013-09019 Filed 4-16-13; 8:45 am]

BILLING CODE 5001-06-P